DEPARTMENT OF THE INTERIOR

Fish and Wildlife Service

Marine Mammal Annual Report Availability, Combined Calendar Years 1999 and 2000

AGENCY: Fish and Wildlife Service, Interior.

ACTION: Notice of availability.

SUMMARY: We, the U.S. Fish and Wildlife Service and the Biological Resources Discipline of the U.S. Geological Survey, have issued our combined Calendar Years 1999 and 2000 annual report on marine mammals under the jurisdiction of the U.S. Department of the Interior, as required by section 103(f) of the Marine Mammal Protection Act of 1972. Our report covers the periods of January 1 to December 31, 1999, and January 1 to December 31, 2000. We submitted the report to Congress on September 7, 2004. By this notice, we are informing you, the public, that the report is available and that copies may be obtained on request to the U.S. Fish and Wildlife Service.

ADDRESSES: You should submit written requests for copies to: Publications Unit, U.S. Fish and Wildlife Service, National Conservation Training Center, Route 1, Box 166, Shepherd Grade Road, Shepherdstown, WV 25443. You may also contact that office by telephone at 1-800-344-WILD (9453).

FOR FURTHER INFORMATION CONTACT: Diane Bowen, Division of Habitat and Resource Conservation, U.S. Fish and Wildlife Service in Arlington, Virginia, at telephone 703-358-2161.

SUPPLEMENTARY INFORMATION: The U.S. Department of the Interior is responsible for eight species of marine mammals, as assigned by the Marine Mammal Protection Act of 1972, as amended (16 U.S.C. 1361 et seq.). These species are polar bear, sea and marine otters, walrus, three species of manatee, and dugong. Administrative actions discussed in our report include appropriations, status reports, research activities, scientific research and public display permits, international activities, law enforcement actions, and outer continental shelf operations and environmental studies.

Dated: July 25, 2005.
Mamie Parker,
Assistant Director, Fisheries and Habitat Conservation.

[FR Doc. 05-17330 Filed 8-30-05; 8:45 am]

BILLING CODE 4310-55-U